DEPARTMENT OF HEALTH AND HUMAN SERVICES

Agency for Toxic Substances and Disease Registry

[ATSDR-171]

Availability of Draft Toxicological Profiles

AGENCY: Agency for Toxic Substances and Disease Registry (ATSDR), Department of Health and Human Services (HHS).

ACTION: Notice of availability.

SUMMARY: This notice announces the availability of three new draft toxicological profiles, comprising the second set developed for the Department of Energy, prepared by ATSDR for review and comment.

DATES: To ensure consideration, comments on these draft toxicological profiles must be received on or before October 31, 2001. Comments received after the close of the public comment period will be considered at the discretion of ATSDR based upon what is deemed to be in the best interest of the general public.

ADDRESSES: Requests for copies of the draft toxicological profiles or comments regarding the draft toxicological profiles should be sent to the attention of Ms. Franchetta Stephens, Division of Toxicology, Agency for Toxic Substances and Disease Registry, Mailstop E-29, 1600 Clifton Road, NE, Atlanta, Georgia 30333.

Requests for the draft toxicological profiles must be in writing, and must specifically identify the hazardous substance(s) profile(s) that you wish to receive. ATSDR reserves the right to provide only one copy of each profile requested, free of charge. In case of extended distribution delays, requestors will be notified.

Written comments and other data submitted in response to this notice and the draft toxicological profiles should bear the docket control number ATSDR-171. Send one copy of all comments and three copies of all supporting documents to the Division of Toxicology at the above address by the end of the comment period. Because all public comments regarding ATSDR toxicological profiles are available for public inspection after the profile is published in final, no confidential business information should be submitted in response to this notice.

FOR FURTHER INFORMATION CONTACT: Ms. Franchetta Stephens, Division of Toxicology, Agency for Toxic Substances and Disease Registry, Mailstop E-29, 1600 Clifton Road, NE, Atlanta, Georgia 30333, telephone 1-(888) 422-8737 or (404) 498-0720.

SUPPLEMENTARY INFORMATION: These toxicological profiles were developed by ATSDR for hazardous substances at Department of Energy (DOE) waste sites under Section 104(i)(3) and (5) of the Comprehensive Environmental Response, Compensation, and Liability Act of 1980 (CERCLA or Superfund). This public law directed ATSDR to prepare toxicological profiles for hazardous substances most commonly found at facilities on the CERCLA National Priorities List (NPL) and that pose the most significant potential threat to human health, as determined by ATSDR and the U.S. Environmental Protection Agency (EPA). The current ATSDR priority list of hazardous substances at DOE NPL sites was announced in the Federal Register on July 24, 1996 (61 FR 38451).

Although key studies for each of the substances were considered during the profile development process, this Federal Register notice seeks to solicit any additional studies, particularly unpublished data and ongoing studies, which will be evaluated for possible addition to the profiles now or in the future.

The following draft toxicological profiles will be made available to the public on or about August 7, 2001.

Document | Hazardous substance | CAS No.
1 | Americium | 7440-35-9
2 | Cesium | 7440-46-2
| Cesium Chloride | 7647-17-8
| Cesium-134 | 13967-70-9
| Cesium-137 | 010045-97-3
3 | Strontium | 7440-35-9

All profiles issued as “Drafts for Public Comment” represent ATSDR's best efforts to provide important toxicological information on priority hazardous substances.

We are seeking public comments and additional information which may be used to supplement these profiles. ATSDR remains committed to providing a public comment period for these documents as a means to best serve public health and our clients.

Dated: August 1, 2001.
Georgi Jones,
Director, Office of Policy and External Affairs, Agency for Toxic Substances and Disease Registry.

[FR Doc. 01-19689 Filed 8-6-01; 8:45 am]

BILLING CODE 4163-70-P